FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 11, 2005.

A. Federal Reserve Bank of New York (Jay Bernstein, Bank Supervision Officer) 33 Liberty Street, New York, New York 10045-0001:

1. George E. Scharpf; Patricia M. Scharpf; and G. Gregory Scharpf, all of Colts Neck, New Jersey; Eric Francis Scharpf, Haverford, Pennsylvania; Elizabeth M. Scharpf, Colts Neck, New Jersey; George E. Scharpf Irrevocable Trust, Old Bridge, New Jersey; Joseph J. DiSepio, Jamesburg, New Jersey; Margueritte DiSepio, Jamesburg, New Jersey; Estate of Ernest J. Scharpf, Jr., Jamesburg, New Jersey; The EJ Scharpf Foundation, Old Bridge, New Jersey; George E. Scharpf Trust for the benefit of Ernest J. Scharpf, Old Bridge, New Jersey; to retain voting shares of Amboy Bancorporation, Old Bridge, New Jersey, and thereby indirectly retain voting shares of Amboy National Bank, Old Bridge, New Jersey.

B. Federal Reserve Bank of Chicago (Patrick M. Wilder, Assistant Vice President) 230 South LaSalle Street, Chicago, Illinois 60690-1414:

1. Walter Carlson, Naples, Florida, and Dennis Shull, Indianola, Iowa; to acquire additional voting shares of Morning Sun Bank Corp., Morning Sun, Iowa, and thereby indirectly acquire voting shares of Iowa State Bank, Wapello,Iowa.

C. Federal Reserve Bank of Kansas City (Donna J. Ward, Assistant Vice President) 925 Grand Avenue, Kansas City, Missouri 64198-0001:

1. T. Coleman Andrews, III, Jackson, Wyoming; Everette G. Allen, Jr., Richmond, Virginia; Allen S. Andrews, Middleburg, Virginia; Timothy A. Anonick, Midlothian, Virginia; John C. Backus, Jr., Great Falls, Virginia; David F. Bullock, Alpin, Utah; Marvin P. Bush, Alexandria, Virginia; Christopher H. Daniell, Hopkinton, New Hampshire; Laurence C. Fentriss, Richmond, Virginia; Davila Jaime, McAllen, Texas; Ronald P. Mika, Alpine, Utah; Geoffrey S. Rehnert, Weston, Massachusetts; Kevin W. Wilson, Virginia Beach, Virginia; and Marc B. Wolpow, Wellesley, Massachusetts; to acquire voting shares of Rock Springs American Bancorporation, Inc., and thereby indirectly acquire voting shares of American National Bank of Rock Springs, both of Rock Springs, Wyoming.

Board of Governors of the Federal Reserve System, April 21, 2005.
Jennifer J. Johnson,
Secretary of the Board.

[FR Doc. 05-8393 Filed 4-26-05; 8:45 am]

BILLING CODE 6210-01-S